DEPARTMENT OF ENERGY

Federal Energy Regulatory Commission

Notice of Applications Ready for Environmental Analysis and Soliciting Comments, Recommendations, Terms and Conditions, and Prescriptions

December 4, 2000.

Take notice that the following hydroelectric applications have been filed with the Commission and are available for public inspection.

a. Type of Applications: Two new licenses and three subsequent licenses.

b. Project Nos.: 2942-005, 2931-002, 2941-002, 2932-003, and 2897-003.

c. Date Filed: January 22, 1999.

d. Applicant: S. D. Warren Company.

e. Names of Projects: Dundee, Gambo, Little Falls, Mallison Falls, and Saccarappa.

f. Location: On the Presumpscot River, near the towns of Windham, Gorham, and Westbrook, in Cumberland County, Maine. These projects do not utilize any federal lands.

g. Filed Pursuant to: Federal Power Act, 16 U.S.C. 791(a)-825(r).

h. Applicant Contact: Mr. Thomas Howard, S. D. Warren Company, 89 Cumberland Street, P.O. Box 5000, Westbrook, ME 04098-1597, 207-856-4286.

i. FERC Contact: Jim Haimes; james.haimes@ferc.fed.us, 202-219-2780.

j. Deadline for Filing Comments, Recommendations, Terms and Conditions, and Prescriptions: 60 days from the issuance date of this notice.

All documents (original and eight copies) should be filed with: David P. Boergers, Secretary, Federal Energy Regulatory Commission, 888 First Street, NE., Washington, DC 20426.

The Commission's Rules of Practice and Procedure require all interveners filing documents with the Commission to serve a copy of that document on the official service list for the project. Further, if an intervener files comments or documents with the Commission relating to the merits of an issue that may affect the responsibilities of a particular resource agency, the intervener also must serve a copy of the document on that resource agency.

Comments, recommendations, terms and conditions, and prescriptions may be filed electronically via the internet in lieu of paper. See, 18 CFR 385.2001(a)(1)(iii) and the instructions on the Commission's website at http://www.ferc.fed.us/efi/doorbell.htm.

k. Status of Environmental Analysis: These applications have been accepted for filing and are ready for environmental analysis at this time.

l. Description of the Projects (from upstream to downstream):

The Dundee Project consists of the following existing facilities: (1) A 1,492-foot-long dam, consisting of two, 50-foot-high earthen embankments separated by a 50-foot-long, 42-foot-high concrete spillway section, a 90-foot-long by 50-foot-high non-overflow section, and a 27-foot-long gate section; (2) a 1.7-mile-long-impoundment extending from the Dundee dam upstream to the tailwaters of the North Gorham Project, with a surface area of approximately 197 acres at normal elevation, 187.22 feet U.S. Geological Survey datum (USGS); (3) a 44-foot-wide by 74-foot-long, reinforced concrete powerhouse, which is integral to the spillway section of the dam; (4) three turbine generator units, each with a rated capacity of 800 kilowatts (kW) for a total project installed capacity of 2,400 kW; (5) a 1,075-foot-long bypassed reach; (6) a 1,075-foot-long, 30-foot-wide, by 11-foot-deep tailrace; (3) two 10-mile-long, 11-kilovolt (kV) transmission lines; and (7) other appurtenances.

The Gambo Project consists of the following existing facilities: (1) a 250-foot-long, 24-foot-high, concrete overflow section and 50-foot-long intake structure; (2) a 3.3-mile-long impoundment extending from the Gambo dam upstream to the tailwaters of the Dundee Project, with a surface area of approximately 151 acres at normal elevation, 135.13 feet USGS; (3) a 737-foot-long by 15-foot-deep, concrete-lined intake canal; (4) a 47-foot-wide by 78-foot-long, reinforced concrete and brick powerhouse; (5) two turbine generator units, each with a rated capacity of 950 kW, for a total project installed capacity of 1,900 kW; (6) a 300-foot-long bypassed reach; (7) an 8-mile-long, 11-kV transmission line; and (8) other appurtenances.

The Little Falls Project consists of the following existing facilities: (1) A 330-foot-long by 14-foot-high, reinforced concrete and masonry dam incorporating a 70-foot-long intake structure; (2) a 1.7-mile-long impoundment extending from the Little Falls dam upstream to the Gambo dam, with a surface area of approximately 29 acres at normal elevation, 108.7 feet USGS; (3) a 25-foot-wide by 95-foot-long, masonry powerhouse, which is integral to the dam; (4) four turbine generator units, each with a rated capacity of 250 kW, for a total project installed capacity of 1,000 kW; (5) a 300-foot-long bypassed reach; (6) an 11-kW transmission line tied into the Gambo Project transmission line; and (7) other appurtenances.

The Mallison Falls Project consists of the following existing facilities: (1) A 358-foot-long by 14-foot-high, reinforced concrete, masonry and cut granite diversion dam; (2) a 0.5-mile-long impoundment extending from the Mallison Falls dam upstream to the tailwaters of the Little Falls Project, with a surface area of approximately 8 acres at normal elevation, 90.6 feet USGS; (3) a 70-foot-long headgate structure; (4) a 675-foot-long, 41-foot-wide, by 6-foot-deep, bedrock lined intake canal; (50 a 33-foot-wide by 51-foot-long, reinforced concrete and masonry powerhouse; (6) two turbine generator units, each with a rated capacity of 400 kW, for a total project installed capacity of 800 kW; (7) a 675-foot-long bypassed reach; (8) an 11-kV transmission line tied into the Gambo Project transmission line; and (9) other appurtenances.

The Saccarappa Project consists of the following existing facilities: (1) A 322-foot-long diversion dam consisting of two concrete overflow structures separated by an island; (2) a 5.0-mile-long impoundment extending from the Saccarappa dam upstream to the tailwaters of the Mallison Falls Project, with a surface area of approximately 87 acres at normal elevation, 69.96 feet USGS; (3) two bypassed reaches measuring 475 feet and 390 feet long; (4) a 380-foot-long by 36-foot-wide intake canal; (5) a 49-foot-wide by 71-foot-long, masonry powerhouse; (6) three turbine generator units, each with a rated capacity of 450 kW for a total project capacity of 1,350 kW; (7) a 345-foot-long tailrace formed by a 33-foot-high guard wall; (8) a 1-mile-long 2.3-kV transmission line/generator lead; and (9) other appurtenances.

The five projects operate continuously to generate electricity that is utilized at Warren's pulp and paper mill facilities in Westbrook, Maine. Under typical daily operations, Warren maximizes output by manually controlling of each of the five projects in response to flow inputs from Warren's upstream Eel Weir Project (FERC No. 2984), located at the outlet of Sebago Lake, and various minor tributaries to the Presumpscot River downstream of the Eel Weir Project. Daily impoundment level fluctuations of 2 feet or less typically occur at the Little Falls, Mallison Falls, and Saccarappa Projects, impoundment fluctuations of up to 1 foot per day occur at the Dundee and Gambo Projects.

m. Locations of the Applications: Copies of each of the five applications are available for inspection and reproduction at the Commission's Public Reference Room, located at 888 First Street, NE, Room 2A, Washington, D.C. 20246, or by calling (202) 208-1371. The applications also may be viewed on the web at http://www.ferc.fed.us/online/rims.htm (call 202-208-2222) for assistance). Copies also are available for inspection and reproduction at the address in item h, above.

n. Filing and Service of Responsive Documents—The Commission directs pursuant to Section 4.34(b) of the Regulations (see Order No. 533 issued May 8, 1991, 56 FR 23108, May 20, 1991) that all comments, recommendations, terms and conditions, and prescriptions concerning the applications be filed with the Commission within 60 days from the issuance date of this notice. All reply comments must be filed with the Commission within 105 days from the date of this notice.

Anyone may obtain an extension of time for these deadlines from the Commission only upon a showing of good cause or extraordinary circumstances in accordance with 18 CFR 385.2008.

All filings must: (1) Bear in all capital letters the title “COMMENTS”, “REPLY COMMENTS”, “RECOMMENDATIONS”, “TERMS AND CONDITIONS,” or “PRESCRIPTIONS;” (2) set forth in the heading the name of the applicant and the project number(s) of the application to which the filing responds; (3) furnish the name, address, and telephone number of the person submitting the filing; and (4) otherwise comply with the requirements of 18 CFR 385.2001 through 385.2005. All comments recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

David P. Boergers,
Secretary.

[FR Doc. 00-31281 Filed 12-7-00; 8:45 am]

BILLING CODE 6717-01-M